DEPARTMENT OF ENERGY

Federal Energy Regulatory Commission

Combined Notice of Filings #1

Take notice that the Commission received the following exempt wholesale generator filings:

Docket Numbers: EG25-449-000.

Applicants: RE Desert Bloom LLC.

Description: RE Desert Bloom LLC submits Notice of Self-Certification of Exempt Wholesale Generator Status.

Filed Date: 8/13/25.

Accession Number: 20250813-5154.

Comment Date: 5 p.m. ET 9/3/25.

Docket Numbers: EG25-450-000.

Applicants: Misae Solar IV LLC.

Description: Misae Solar IV LLC submits Notice of Self-Certification of Exempt Wholesale Generator Status.

Filed Date: 8/13/25.

Accession Number: 20250813-5155.

Comment Date: 5 p.m. ET 9/3/25.

Take notice that the Commission received the following electric rate filings:

Docket Numbers: ER24-306-002.

Applicants: Pacific Gas and Electric Company.

Description: Compliance filing: TO SA 467: TID Compliance Filing in Docket No. ER24-306 to be effective 9/3/2025.

Filed Date: 8/14/25.

Accession Number: 20250814-5062.

Comment Date: 5 p.m. ET 9/4/25.

Docket Numbers: ER24-1137-002.

Applicants: Pacific Gas and Electric Company.

Description: Compliance filing: TO SA 479: MID Compliance Filing in Docket No. ER24-1137 to be effective 9/3/2025.

Filed Date: 8/14/25.

Accession Number: 20250814-5065.

Comment Date: 5 p.m. ET 9/4/25.

Docket Numbers: ER25-3176-000.

Applicants: Research Power Corporation.

Description: Compliance filing: Notice of Succession to be effective 7/2/2025.

Filed Date: 8/14/25.

Accession Number: 20250814-5034.

Comment Date: 5 p.m. ET 9/4/25.

Docket Numbers: ER25-3177-000.

Applicants: Portland General Electric Company.

Description: Portland General Electric Company submits Average System Cost Filing for Sales of Electric Power to the Bonneville Power Administration, 10/01/2025, through 09/30/2028.

Filed Date: 8/13/25.

Accession Number: 20250813-5180.

Comment Date: 5 p.m. ET 9/3/25.

Docket Numbers: ER25-3178-000.

Applicants: Tri-State Generation and Transmission Association, Inc.

Description: 205(d) Rate Filing: Amendment to Rate Schedule FERC No. 21 to be effective 8/11/2025.

Filed Date: 8/14/25.

Accession Number: 20250814-5087.

Comment Date: 5 p.m. ET 9/4/25.

Docket Numbers: ER25-3179-000.

Applicants: PJM Interconnection, L.L.C.

Description: 205(d) Rate Filing: Notice of Cancellation of WMPA, SA No. 6388; AG1-397 re: withdrawal to be effective 10/14/2025.

Filed Date: 8/14/25.

Accession Number: 20250814-5110.

Comment Date: 5 p.m. ET 9/4/25.

Docket Numbers: ER25-3180-000.

Applicants: Puget Sound Energy, Inc.

Description: Puget Sound Energy, Inc. submits Average System Cost Filing for Sales of Electric Power to the Bonneville Power Administration, 10/01/2025, through 09/30/2028.

Filed Date: 8/13/25.

Accession Number: 20250813-5181.

Comment Date: 5 p.m. ET 9/3/25.

Docket Numbers: ER25-3181-000.

Applicants: Eldorado Solar Project, LLC.

Description: 205(d) Rate Filing: Eldorado Solar Third Amendment to SFA to be effective 8/15/2025.

Filed Date: 8/14/25.

Accession Number: 20250814-5157.

Comment Date: 5 p.m. ET 9/4/25.

Docket Numbers: ER25-3182-000.

Applicants: Elwood Energy LLC.

Description: Tariff Amendment: Notice of Cancellation of Reactive Service Rate Schedule to be effective 12/31/9998.

Filed Date: 8/14/25.

Accession Number: 20250814-5167.

Comment Date: 5 p.m. ET 9/4/25.

Docket Numbers: ER25-3183-000.

Applicants: RE Desert Bloom LLC.

Description: Initial Rate Filing: Application for Market-Based Rate Authority to be effective 10/14/2025.

Filed Date: 8/14/25.

Accession Number: 20250814-5178.

Comment Date: 5 p.m. ET 9/4/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 14, 2025.
Carlos D. Clay,
Deputy Secretary.

[FR Doc. 2025-15751 Filed 8-18-25; 8:45 am]

BILLING CODE 6717-01-P